DEPARTMENT OF AGRICULTURE

Rural Utilities Service

KAMO Power: Notice of Intent To Hold Public Scoping Meetings and Prepare an Environmental Assessment

AGENCY: Rural Utilities Service, USDA.

ACTION: Notice of Intent to Hold Public Scoping Meetings and Prepare an Environmental Assessment (EA).

SUMMARY: The Rural Utilities Service (RUS), an Agency delivering the United States Department of Agriculture (USDA) Rural Development Utilities Programs, hereinafter referred to as Rural Development and/or Agency, intends to hold public scoping meetings and prepare an Environmental Assessment (EA) related to possible financial assistance to KAMO Power (KAMO) of Vinita, Oklahoma, for the proposed construction of approximately 100 miles of 345 kilovolt (kV) transmission line in Cherokee and Crawford Counties, Kansas; portions of Jasper, Newton, and McDonald Counties, Missouri; and Ottawa, Delaware, Craig, and Mayes Counties, Oklahoma. KAMO is requesting USDA Rural Development to provide financial assistance for the proposal.

DATES: Rural Development will hold two scoping meetings in an open house format in order to provide information and solicit comments for the preparation of an EA. The first meeting will be held on July 24, 2007, at Cowboy Junction, 27544 South 4380 Road, Vinita, Oklahoma 74301. The second meeting will be held at the Baxter Springs Community Center, 1101 E Avenue, Baxter Springs, Kansas 66713. Both meetings will be held from 6 to 8 p.m.

ADDRESSES: To obtain copies of the EA, or for further information, contact: Dennis Rankin, Environmental Protection Specialist, USDA, Rural Development, Utilities Programs, Engineering and Environmental Staff, 1571, 1400 Independence Avenue, SW., Stop 1571, Washington, DC 20250-1571, telephone (202) 720-1953, or e-mail: dennis.rankin@wdc.usda.gov.

A Macro Corridor Study will be available for public review at USDA Rural Development, Utilities Programs, 1400 Independence Avenue, SW., Washington, DC 20250-1571; at Rural Development's Web site http://www.usda.gov/rus/water/ees/ea.htm; and at KAMO's headquarters office, 500 South KAMO Drive, Vinita, Oklahoma 74301. The document will also be available for review in the public libraries in Langley, Pryor, Miami, and Vinita, Oklahoma, and Pittsburg, Galena, and Baxter Springs, Kansas.

SUPPLEMENTARY INFORMATION: KAMO proposes to construct a 345 kV transmission line between its new Blackberry Substation in western Jasper County, Missouri and the new Chouteau 345/161 kV Substation and the existing Grand River Dam Authority's (GRDA) Coal-Fired Complex in Mayes County, Oklahoma. A single-circuit 161 kV transmission line will also be constructed from the Chouteau Substation to the Associated Electric Cooperative, Inc. (AECI), Chouteau Gas Plant. The Blackberry Substation will be located 3.5 miles north of Asbury, Missouri. The transmission line will terminate at the GRDA Coal-Fired Complex located east of the City of Chouteau, Oklahoma. The Chouteau Substation will be located approximately two miles east of the AECI's gas plant. Transmission structures will be steel H-frame for the 345 kV transmission line and wood or steel H-frame for the 161 kV transmission line. The transmission line would require a right-of-way of 150 feet.

Government agencies, private organizations, and the public are invited to participate in the planning and analysis of the proposal. Representatives from Rural Development and KAMO will be available at the scoping meeting to discuss Rural Development's environmental review process, describe the purpose and need of the proposal, the macro corridors under consideration, and discuss the scope of environmental issues to be considered, answer questions, and accept oral and written comments.

Questions and comments should be received by Rural Development in writing by August 17, 2007, to ensure that they are considered in this environmental impact determination. The comments received will be incorporated into the Environmental Analysis KAMO will submit to Rural Development for review. Rural Development will use the environmental analyses to determine the significance of the impacts of the proposal and may adopt it as its EA of the proposal. Rural Development's EA would be available for review and comment for 30 days.

Should Rural Development determine that the preparation of an Environmental Impact Statement is not necessary, it will prepare a Finding of No Significant Impact. Any final action by Rural Development related to the proposal will be subject to, and contingent upon, compliance with all relevant Federal, State and local environmental laws and regulations and completion of the environmental review procedures as prescribed by RUS's Environmental Policies and Procedures (7 CFR part 1794).

Dated: July 9, 2007.
Mark S. Plank,
Director, Engineering and Environmental Staff, USDA/Rural Development/Utilities Programs.

[FR Doc. E7-13590 Filed 7-12-07; 8:45 am]

BILLING CODE 3410-15-P